FEDERAL COMMUNICATIONS COMMISSION

47 CFR Part 73

[DA 05-563; MB Docket No. 04-237, RM-10996; MB Docket No. 04-238, RM-10997]

Radio Broadcasting Services; Gassville, AR and Nantucket, MA

AGENCY: Federal Communications Commission.

ACTION: Final rule.

SUMMARY: The Audio Division, at the request of Northwest Arkansas Broadcasting Company, LLC, allots Channel 224A at Gassville, as the community's first local service. See 69 FR 42956, July 19, 2004. Channel 224A can be allotted to Gassville in compliance with the Commission's minimum distance separation requirements with a site restriction of .7 kilometers (.4 miles) north of Gassville. The reference coordinates for Channel 224A at Gassville, Arkansas are 36-17-22 North Latitude and 92-29-43 West Longitude. The Audio Division, at the request of Paul B. Christensen allots Channel 249A at Nantucket, Massachusetts, as the community's second FM commercial aural transmission service. Channel 249A can be allotted to Nantucket in compliance with the Commission's minimum distance separation requirements with a site restriction of .4 kilometers (.25 miles) north of Nantucket. The reference coordinates for Channel 249A at Nantucket are 41-17-12 North Latitude and 70-06-06 West Longitude.

DATES: Effective April 18, 2005. The window period for filing applications for these allotments will not be opened at this time. Instead, the issue of opening these allotments for auction will be addressed by the Commission in a subsequent order.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 04-237, 04-238, adopted March 2, 2005 and released March 4, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Arkansas, is amended by adding Gassville, Channel 224A.

3. Section 73.202(b), the Table of FM Allotments under Massachusetts, is amended by adding Channel 249A at Nantucket.

Federal Communications Commission.
John A. Karousos,
Assistant Chief, Audio Division, Media Bureau.

[FR Doc. 05-5734 Filed 3-23-05; 8:45 am]

BILLING CODE 6712-01-P